EQUAL EMPLOYMENT OPPORTUNITY COMMISSION

Agency Information Collection Activities: Existing Collection

AGENCY: Equal Employment Opportunity Commission.

ACTION: 60-Day Notice of Information Collection—Extension without change of a currently approved collection Local Union Report (EEO-3) and request for comments.

SUMMARY: In accordance with the Paperwork Reduction Act of 1995 (PRA), the Equal Employment Opportunity Commission (EEOC or Commission) announces that it intends to submit to the Office of Management and Budget (OMB) a request for a three-year extension without change of the existing Local Union Report (EEO-3) (Form 274) as described below.

DATES: Written comments on this notice are encouraged and must be submitted on or before January 19, 2021.

ADDRESSES: You may submit comments by any of the following methods—please use only one method:

Federal eRulemaking Portal: http://www.regulations.gov. Follow the instructions on the website for submitting comments.

Mail: Comments may be submitted by mail to Bernadette B. Wilson, Executive Officer, Executive Secretariat, Equal Employment Opportunity Commission, 131 M Street NE, Washington, DC 20507.

Fax: Comments totaling six or fewer pages can be sent by facsimile (“fax”) machine to (202) 663-4114. (This is not a toll-free number.) Receipt of fax transmittals will not be acknowledged, except that the sender may request confirmation of receipt by calling the Executive Secretariat staff at (202) 663-4070 (voice) or 800-669-6820 (TTY). (These are not toll-free telephone numbers.)

Instructions: All comments received must include the agency name and docket number and will be posted without change to http://www.regulations.gov, including any personal information provided. However, the EEOC reserves the right to refrain from posting libelous or otherwise inappropriate comments, including those that contain obscene, indecent, or profane language; that contain threats or defamatory statements; that contain hate speech directed at race, color, sex, national origin, age, religion, disability, or genetic information; or that promote or endorse services or products.

Although copies of comments received are usually also available for review at the Commission's library, given the EEOC's current 100% telework status due to the Coronavirus Disease 2019 (COVID-19) public health emergency, the Commission's library is closed until further notice. Once the Commission's library is re-opened, copies of comments received in response to the proposed rule will be made available for viewing by appointment only at 131 M Street NE, Suite 4NW08R, Washington, DC 20507, between the hours of 9:30 a.m. and 5 p.m.

FOR FURTHER INFORMATION CONTACT: Rashida Dorsey, Employer Data Team, Data Development and Information Products Division, Equal Employment Opportunity Commission, 131 M Street NE, Room 4SW32J, Washington, DC 20507; (202) 663-4355 (voice), (202) 663-7063 (TTY) or email at Rashida.dorsey@eeoc.gov.

SUPPLEMENTARY INFORMATION: Pursuant to the Paperwork Reduction Act and OMB regulation 5 CFR 1320.8(d)(1), the Commission solicits public comment to enable it to: (1) Evaluate whether the proposed collection of information is necessary for the proper performance of the Commission's functions, including whether the information will have practical utility; (2) Evaluate the accuracy of the Commission's estimate of the burden of the proposed collection of information, including the validity of the methodology and assumptions used; (3) Enhance the quality, utility, and clarity of the information to be collected; and (4) Minimize the burden of the collection of information on those who are to respond, including the use of appropriate automated, electronic, mechanical, or other technological collection techniques or other forms of information technology, e.g., permitting electronic submission of responses.

Overview of Information Collection

Collection Title: Local Union Report (EEO-3).

OMB Number: 3046-0006.

Frequency of Report: Biennial.

Type of Respondent: Local referral unions with 100 or more members.

Description of Affected Public: Local referral unions and independent or unaffiliated referral unions and similar labor organizations.

Responses: 1,100 ¹ per biennial collection.

¹ This figure is based on the total number of respondents who were eligible to submit EEO-3 data in 2018, which is the most recently completed EEO-3 data year.

Reporting Hours: 2,252 per biennial collection.

Burden Hour Cost: $70,415.95 per biennial collection.

Federal Cost: $390,120.85 per biennial collection.

Number of Forms: 1.

Form Number: EEOC Form 274.

Abstract: Section 709(c) of Title VII of the Civil Rights Act of 1964, as amended, 42 U.S.C. 2000e-8(c), requires labor organizations to make and keep records relevant to a determination of whether unlawful employment practices have been or are being committed and produce reports required by the EEOC. Accordingly, the EEOC has issued regulations, 29 CFR 1602.22-.28, which set forth the reporting requirements and record retention policies for various kinds of labor organizations. 29 CFR 1602.22 requires every local union to retain the most recent report filed, and 29 CFR 1602.27-.28 require filers to make records necessary for completion of the EEO-3 and preserve them for a year (or if a charge of discrimination is filed, relevant records must be retained until final disposition of the matter). 29 CFR 1602.22 and 1602.27-.28 are related to record keeping which is part of standard administrative practices, and as a result, the EEOC believes that any impact on burden would be negligible and nearly impossible to quantify. Local referral local unions with 100 or more members have been required to submit EEO-3 reports since 1967 (biennially since 1985). The EEOC uses EEO-3 data for research and to investigate charges of discrimination. The individual reports are confidential.

Burden Statement: The methodology for calculating annual burden reflects the different staff that are responsible for preparing and filing the EEO-3. These estimates stem from a limited study that was conducted in 2015 with nine EEO-3 respondents. The EEOC accounts for time to be spent biennially on EEO-3 reporting by business agents and administrative staff, as well as time spent by attorneys who, in a few cases, may consult briefly during the reporting process. The estimated number of respondents included in the biennial EEO-3 survey is 1,100 local referral unions, as this is the approximate number of filers from the 2018 reporting cycle. The estimated hour burden per report will be 2.05 hours, and the estimated total biennial respondent burden hours will be 2,251.80. Burden hour cost was calculated using median hourly wage rates for administrative staff and legal counsel, and average hourly wage rates for labor union business agents.²

The burden hour cost per report will be $67.33, and the estimated total biennial burden hour cost per biennial collection will be $73,842.75 (See Table 1 for calculations).

Table 1—Estimate of Biennial Burden for EEO-3 Report
Local referral union staff | Hourly wage rateᵃ | Hours per local | Cost per local | Total burden hours | Total burden hour cost
Secretaries and Administrative Assistants | $18.84 | 1 | $18.84 | 1,100 | $20,724.00
Business Agent | 45.00 | 1 | 45.00 | 1,100 | 49,500.00
Corporate Legal Counsel | 69.86 | 0.05 | 3.49 | 55 | 191.95
Total |  | 2.05 | 67.33 | 2,251.80 | 70,415.95
Note: A limited study was conducted by the EEOC of local referral union EEO-3 respondents. The methodology included surveying nine local referral union respondents by asking a series of survey questions approved by the EEOC's Office of Legal Counsel regarding the type of local union staff involved in submitting EEO-3 data. The EEOC asked responding study participants to estimate how long on average it took identified local union staff members to complete the EEO-3 report and what proportion of that time was allocated to each staff member job title. The burden hours per local union by job title, 2.05, is estimated based on filer responses. The results of the study were published in the Final Notice of Submission for OMB Review—Extension Without Change: Local Union Report (EEO-3) on January 24, 2017: https://www.federalregister.gov/documents/2017/01/24/2017-01558/agency-information-collection-activities-proposed-collection-submission-for-omb-review.
ᵃ Hourly wage rates for administrative staff and legal counsel were obtained from the Bureau of Labor Statistics, May 2019 (see U.S. Dept. of Labor, Bureau of Labor Statistics, Occupational Outlook Handbook, https://www.bls.gov/oes/current/oes_stru.htm) and the average hourly wage rate for a labor union business agent was obtained from salaryexpert.com (see https://www.salaryexpert.com/salary/job/labor-union-business-agent/united-states).

These estimates are based upon filers' use of the EEO-3 online filing system to submit reports. The EEOC has made electronic submission much easier for respondents required to file the EEO-3 Report. During the 2018 EEO-3 data collection cycle, approximately 1,100 local referral unions were identified as being eligible to report EEO-3 data, and all but 31 of the 975 responsive EEO-3 filers submitted their data electronically. Electronic filing remains the most efficient, accurate, and secure means of reporting for respondents required to submit the EEO-3 report. The EEOC has made electronic filing much easier for respondents required to file the EEO-3 report and as a result, more respondents are using this electronic filing method. Accordingly, the EEOC will continue to encourage EEO-3 filers to submit data through electronic filing, and will only accept paper records from filers who have secured permission to submit data via paper submission.

For the Commission.
Janet Dhillon,
Chair.

[FR Doc. 2020-25565 Filed 11-18-20; 8:45 am]

BILLING CODE 6570-01-P